NATIONAL ARCHIVES AND RECORDS ADMINISTRATION

Information Security Oversight Office

National Industrial Security Program Policy Advisory Committee (NISPPAC)

AGENCY: National Archives and Records Administration.

ACTION: Notice of meeting.

SUMMARY: In accordance with the Federal Advisory Committee Act (5 U.S.C. app 2) and implementing regulation 41 CFR part 101-6, announcement is made for the following committee meeting. This meeting will be open to the public. However, due to space limitations and access procedures, the name and telephone number of individuals planning to attend must be submitted to the Information Security Oversight Office no later than Friday, March 16, 2012. The Information Security Oversight Office will provide additional instructions for gaining access to the location of the meeting.

DATES: The meeting will be held on March 21, 2012 10 a.m. to 12 noon.

ADDRESSES: National Archives and Records Administration, 700 Pennsylvania Avenue NW., Archivist's Reception Room, Room 105, Washington, DC 20408.

FOR FURTHER INFORMATION CONTACT: David O. Best, Senior Program Analyst, The Information Security Oversight Office, National Archives Building, 700 Pennsylvania Avenue NW., Washington, DC 20408, telephone number (202) 357-5123, or at david.best@nara.gov. Contact The Information Security Oversight Office at ISOO@nara.gov and the NISPPAC at NISPPAC@nara.gov.

SUPPLEMENTARY INFORMATION: The meeting will be held to discuss National Industrial Security Program policy matters.

Dated: February 23, 2012.
Mary Ann Hadyka,
Committee Management Officer.

[FR Doc. 2012-4889 Filed 2-29-12; 8:45 am]

BILLING CODE 7515-01-P